FEDERAL COMMUNICATIONS COMMISSION

47 CFR Part 73

[DA 04-265, MM Docket No. 00-133, RM-9895]

Digital Television Broadcast Service; Portland, ME

AGENCY: Federal Communications Commission.

ACTION: Final rule.

SUMMARY: The Commission, at the request of HMW, Inc., substitutes DTV channel 43 for DTV channel 4 at Portland, Maine. See 67 FR 9646, March 4, 2002. DTV channel 43 can be allotted to Portland, Maine, in compliance with the principal community coverage requirements of Section 73.625(a) at reference coordinates 43-51-06 N. and 70-19-40 W. with a power of 750, HAAT of 265 meters and with a DTV service population of 670 thousand. Since the community of Portland is located within 400 kilometers of the U.S.-Canadian border, concurrence from the Canadian government was obtained for this allotment. With this action, this proceeding is terminated.

DATES: Effective March 29, 2004.

FOR FURTHER INFORMATION CONTACT: Pam Blumenthal, Media Bureau, (202) 418-1600.

SUPPLEMENTARY INFORMATION: This is a synopsis of the Commission's Report and Order, MM Docket No. 00-133, adopted February 3, 2004, and released February 11, 2004. The full text of this document is available for public inspection and copying during regular business hours in the FCC Reference Information Center, Portals II, 445 12th Street, SW., Room CY-A257, Washington, DC. This document may also be purchased from the Commission's duplicating contractor, Qualex International, Portals II, 445 12th Street, SW., CY-B402, Washington, DC, 20554, telephone 202-863-2893, facsimile 202-863-2898, or via e-mail qualexint@aol.com.

List of Subjects in 47 CFR Part 73

Digital television broadcasting, Television.

Part 73 of Title 47 of the Code of Federal Regulations is amended as follows:

PART 73—[AMENDED]

1. The authority citation for Part 73 continues to read as follows:

Authority: 47 U.S.C. 154, 303, 334 and 336.

§ 73.622 [Amended]

2. Section 73.622(b), the Table of Digital Television Allotments under Maine, is amended by removing DTV channel 4 and adding DTV channel 43 at Portland.

Federal Communications Commission.
Barbara A. Kreisman,
Chief, Video Division, Media Bureau.

[FR Doc. 04-3964 Filed 2-23-04; 8:45 am]

BILLING CODE 6712-01-P